DEPARTMENT OF JUSTICE

Federal Bureau of Investigation

[Docket No. FBI 153]

FBI National Name Check Program; New User Fee Schedule

AGENCY: Federal Bureau of Investigation (FBI), Justice.

ACTION: Notice.

SUMMARY: This notice establishes a new user fee schedule for federal agencies requesting name-based background checks of the FBI's Central Records System through the National Name Check Program for noncriminal justice purposes. The total resource costs associated with providing these name check services have been calculated to ensure full reimbursement to the FBI.

DATES: This fee schedule is effective October 15, 2014.

FOR FURTHER INFORMATION CONTACT: FBI, RMD. National Name Check Program Section, 170 Marcel Drive, Winchester, Virginia 27602, Attention: Edward W. Reinhold, (540) 868-4400.

SUPPLEMENTARY INFORMATION: Pursuant to the authority in Public Law 101-515 as amended, the FBI has established user fees for federal agencies requesting noncriminal name-based background checks of the Central Records System (CRS) through the National Name Check Program (NNCP) of the Records Management Division (RMD). The regulations governing the revision of these user fees are set out at 28 CFR 20.31(e) and (f). In accordance with 28 CFR 20.31(e), the FBI is required to periodically review the amount of the fees it collects for the NNCP to determine the current cost of processing name checks for noncriminal justice purposes and publish any resulting fee adjustments in the Federal Register. Accordingly, the FBI conducted a fee study using FY 2012 cost information applied to the FY 2014 name check projections to assess the current cost to the FBI of processing name checks. The methodology for this new fee study is the same as the FBI has used previously, employing the Activity Based Cost (ABC) accounting method detailed in the Final Rule establishing the process for setting fees (75 FR 24796 (May 6, 2010)). The ABC methodology is consistent with widely accepted accounting principles in addition to the provisions of 31 9701 and other applicable federal law. The fee study identified all direct and indirect costs associated with the name-based background checks incurred by the FBI in fiscal year 2012.

These costs were analyzed by the ABC model to project the total reimbursable costs, by fee category, for fiscal year 2014. The fee study recommended several adjustments to the current user fees, which have been in effect since March 4, 2011. The following table details the fee amounts for federal agencies requesting name-based background checks of the FBI's CRS through the NNCP for noncriminal justice purposes.

Service | Fee currently in effect | Change in fee amount | Revised fee
Electronic Submission:
Batch Process Only | $2.00 | $0.50 | $2.50
Batch + File Review | 38.50 | 3.50 | 42.00
Manual Submission | 50.75 | 15.75 | 66.50
Expedited Submission | 50.75 | 15.75 | 66.50

The higher Batch Fee is based on the increase of certain direct costs, such as those related to information technology acquisition. Manual and Expedited Fees, which only accounted for .027% of all reimbursable submissions in FY 2013, increased due to fixed costs remaining constant while submissions decreased.

This new fee schedule will become effective on October 15, 2014.

Janies B. Comey, Jr.,
Director, Federal Bureau of Investigation.

[FR Doc. 2014-21674 Filed 9-19-14; 8:45 am]

BILLING CODE 4410-02-M